NATIONAL AERONAUTICS AND SPACE ADMINISTRATION

[NOTICE: (20-001)]

NASA Datanaut Applicant Selection

AGENCY: National Aeronautics and Space Administration (NASA).

ACTION: Notice of information collection—renewal of existing information collection.

SUMMARY: The National Aeronautics and Space Administration, as part of its continuing effort to reduce paperwork and respondent burden, invites the general public and other Federal agencies to take this opportunity to comment on proposed and/or continuing information collections.

DATES: Comments are due by February 18, 2020.

ADDRESSES: All comments should be addressed to Claire Little, National Aeronautics and Space Administration, 300 E Street SW, Washington, DC 20546-0001 or call 202-358-2375.

FOR FURTHER INFORMATION CONTACT: Requests for additional information or copies of the information collection instrument(s) and instructions should be directed to Claire Little, NASA Clearance Officer, NASA Headquarters, 300 E Street SW, JF0000, Washington, DC 20546 or email claire.a.little@nasa.gov.

SUPPLEMENTARY INFORMATION:

I. Abstract

The collection of information supports the selection process of individuals to participate in the NASA Datanaut program. NASA's corps of Datanauts features leaders from across the data/maker/tech communities with diverse skill sets who use data in innovative ways. This corps of creative thinkers are interested in engaging with NASA and pioneering the future of exploration-focused data science. Datanauts are citizens personally and/or professionally invested in the use and applications of NASA data. Members have unique early opportunities to test datasets and tools, uncover new use cases for NASA data, and have their visualization, application or storytelling work featured by NASA.

This information will be used by the NASA Datanaut administrative personnel, during the application selection process, to gain insight into the applicant's interest and skill level in data analysis and visualization. Information collected will be limited to full name, city, state and country of origin, email, biography, background experience and biography.

II. Methods of Collection

Electronic.

III. Data

Title: NASA Datanaut Application.

OMB Number:

Type of Review: Renewal of Existing Information Collection.

Affected Public: Individuals.

Estimated Annual Number of Activities: 2.

Estimated Number of Respondents per Activity: 500.

Annual Responses: 1,000.

Estimated Time per Response: 20 minutes.

Estimated Total Annual Burden Hours: 333.

Estimated Total Annual Cost: $5,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Cheryl Parker,
Federal Register Liaison Officer.

[FR Doc. 2020-00553 Filed 1-15-20; 8:45 am]

BILLING CODE 7510-13-P